OFFICE OF PERSONNEL MANAGEMENT

Submission for OMB Review; Comment Request for Extension of an Expiring Information Collection: Establishment Information Form, Wage Data Collection Form, Wage Data Collection Continuation Form DD 1918, DD 1919, and DD 1919C

AGENCY: Office of Personnel Management.

ACTION: Notice.

SUMMARY: Under the Paperwork Reduction Act of 1995 (Pub. L. 104-13, May 22, 1995), the Office of Personnel Management (OPM) has submitted to the Office of Management and Budget a request for extension of three previously-approved information collection forms for which approval will soon expire. The Establishment Information Form, the Wage Data Collection Form, and the Wage Data Collection Continuation Form are wage survey forms developed by OPM for use by the Department of Defense to establish prevailing wage rates for Federal Wage System employees.

The Department of Defense contacts approximately 21,200 businesses annually to determine the level of wages paid by private enterprise establishments for representative jobs common to both private industry and the Federal Government. Each survey collection requires 1-4 hours of respondent burden, resulting in a total yearly burden of approximately 75,800 hours.

For copies of this proposal, contact Mary Beth Smith-Toomey on (202) 606-8358, fax (202) 418-3251, or e-mail mbtoomey@opm.gov. Please include a mailing address with your request.

DATES: Submit comments on or before November 3, 2005.

ADDRESSES: Send or deliver comments to:

• Donald J. Winstead, Deputy Associate Director for Pay and Performance Policy, Office of Personnel Management, Room 7H31, 1900 E Street, NW., Washington, DC 20415-8200; fax (202) 606-4264; or e-mail pay-performance-policy@opm.gov; and

• Brenda Aguilar, OPM Desk Officer, Office of Information and Regulatory Affairs, Office of Management and Budget, New Executive Office Building NW., Room 10235, Washington, DC 20503.

FOR FURTHER INFORMATION CONTACT: Madeline Gonzalez, (202) 606-2838; fax (202) 606-4264; or e-mail pay-performance-policy@opm.gov.

SUPPLEMENTARY INFORMATION: OPM published notice of its intention to request an extension of the information collection wage survey forms in the Federal Register on May 24, 2005 (70 FR 29809). OPM received no comments.

Office of Personnel Management.
Linda M. Springer,
Director.

[FR Doc. 05-19903 Filed 10-3-05; 8:45 am]

BILLING CODE 6325-39-P